DEPARTMENT OF TRANSPORTATION

Federal Aviation Administration

14 CFR Part 39

[Docket No. 2002-CE-01-AD; Amendment 39-12744; AD 2002-09-11]

RIN 2120-AA64

Airworthiness Directives; SOCATA-Groupe AEROSPATIALE Model TBM 700 Airplanes

Correction

In rule document 02-11215 beginning on page 30541 in the issue of Tuesday, May 7, 2002, make the following corrections:

§ 39.13 [Corrected]

1. On page 30542, in the third column, under § 39.13, in the second paragraph, “Aerpspatiale” should read, “Aerospatiale”.

2. On the same page, in the same column, under § 39.13, paragraph (c), last line, “5” should be removed.

3. On page 30543, in the table, in the first column, in paragraph (1)(i), in the first line, “inboard and carriage” should read, “inboard and outboard carriage”.

4. On the same page, in the table, the same column, in paragraph (1)(iv), in the second line, “and the screw heads” should read, “and on the screw heads”.

5. On the same page, in the table, in the same column, in paragraph (2), in the second line, “on the inboard, and central carriages” should read, “on the inboard, outboard, and central carriages”.

6. On the same page, in the table, in the same column, in paragraph (3)(iii), in the third line, “directs AD. differently.” should read, “directs differently.”.

7. On the same page, in the table, in the second column:

a. In the first paragraph, in the seventh line, “yoy” should read, “you”.

b. In the ninth line, “paragraph (s)(2)” should read, “paragraph (d)(2)”.

8. On the same page, in the table, in the same column, in the fourth paragraph, in the first line, “April 27, 201” should read, “April 27, 2001”.

[FR Doc. C2-11215 Filed 5-20-02; 8:45 am]

BILLING CODE 1505-01-D

DEPARTMENT OF TRANSPORTATION

Federal Aviation Administration

14 CFR Part 39

[Docket No. 2001-CE-13-AD; Amendment 39- 12745; AD 2002-09-12]

RIN 2120-AA64

Airworthiness Directives; Raytheon Aircraft Company Beech Model C90 Airplanes

Correction

In rule document 02-11333 beginning on page 31115 in the issue of Thursday, May 9, 2002 make the following correction:

§ 39.13 [Corrected]

On page 31116, in the third column, §39.13, in the table, under the “Procedures” column, in the sixth line, remove the words “ compliance with the”.

[FR Doc. C2-11333 Filed 5-20-02; 8:45 am]

BILLING CODE 1505-01-D